DEPARTMENT OF HOMELAND SECURITY

Coast Guard

[Docket No. USCG-2018-0132]

National Offshore Safety Advisory Committee

AGENCY: U.S. Coast Guard, Department of Homeland Security.

ACTION: Notice of Federal Advisory Committee meeting.

SUMMARY: The National Offshore Safety Advisory Committee and its subcommittees will meet in New Orleans, Louisiana to discuss the safety of operations and other matters affecting the offshore oil and gas industry. These meetings are open to the public.

DATES:

Meetings. The Committee's subcommittee will meet on Tuesday March 27, 2018 from 1:00 p.m. to 5:00 p.m. (Central Time).

The full Committee will meet on Wednesday, March 28, 2018, from 8:00 a.m. to 6:00 p.m. (Central Time). These meetings may end early if the Committee has completed its business, or the meetings may be extended based on the number of public comments.

Comments and supporting documentation: Submit your comments no later than March 20, 2018.

ADDRESSES: All meetings will be held at the Omni Riverfront Hotel, 701 Convention Center Boulevard, New Orleans, Louisiana 70130. https://www.omnihotels.com/hotels/new-orleans-riverfront

For information on facilities or services for individuals with disabilities, or to request special assistance at the meetings, contact the individuals listed in the FOR FURTHER INFORMATION CONTACT section as soon as possible.

Written comments must be submitted using the Federal eRulemaking Portal at http://www.regulations.gov. If you encounter technical difficulties with comment submission, contact the individuals listed in the FOR FURTHER INFORMATION CONTACT section below.

Instructions: You are free to submit comments at any time, including orally at the meetings, but if you want Committee members to review your comment before the meetings, please submit your comments no later than March 20, 2018. We are particularly interested in comments on the issues in the “Agenda” section below. You must include “Department of Homeland Security” and the docket number USCG-2018-0132. Comments received will be posted without alteration at http://www.regulations.gov, including any personal information provided. For more about privacy and the docket, review the Privacy Security Notice for the Federal Docket Management System at https://regulations.gov/privacyNotice.

Docket Search: For access to the docket or to read documents or comments related to this notice, go to http://www.regulations.gov, insert USCG-2018-0132 in the Search box, press Enter, and then click on the item you wish to view.

FOR FURTHER INFORMATION CONTACT: Commander Jose Perez, Designated Federal Officer of the National Offshore Safety Advisory Committee, Commandant (CG-OES-2), U.S. Coast Guard, 2703 Martin Luther King Jr. Avenue SE, Stop 7509, Washington, DC 20593-7509; telephone (202) 372-1410, fax (202) 372-8382 or email jose.a.perez3@uscg.mil, or Mr. Patrick Clark, telephone (202) 372-1358, fax (202) 372-8382 or email Patrick.w.clark@uscg.mil.

SUPPLEMENTARY INFORMATION: Notice of this meeting is in compliance with the Federal Advisory Committee Act, Title 5 United States Code Appendix. The National Offshore Safety Advisory Committee provides advice and recommendations to the Department of Homeland Security on matters relating to activities directly involved with or in support of the exploration of offshore mineral and energy resources insofar as they relate to matters within Coast Guard jurisdiction.

Agenda

Day 1

The National Offshore Safety Advisory Committee's subcommittee on Regulatory Review will meet on March 27, 2018 from 1:00 p.m. to 5:00 p.m. (Central Time) to review, discuss and formulate recommendations.

Day 2

The National Offshore Safety Advisory full Committee will hold a public meeting on March 28, 2018 from 8:00 a.m. to 6:00 p.m. (Central Time) to review and discuss the progress of, and any reports and recommendations received from the above listed subcommittees from their deliberations on December 12, 2017. The Committee will then use this information and consider public comments in formulating recommendations to the United States Coast Guard. Public comments or questions will be taken at the discretion of the Designated Federal Officer during the discussion and recommendation portions of the meeting and during the public comment period, see Agenda item (5).

A complete agenda for March 28, 2018 full Committee meeting is as follows:

(1) Welcoming remarks.

(2) General Administration and accept minutes from July 2017 National Offshore Safety Advisory Committee public teleconference.

(3) Current Business—Presentation and discussion of progress from the Regulatory Review Subcommittee.

(4) New Business—

(a) Alaska Outer Continental Shelf Activities Presentation.

(b) Classification Society Panel Discussion.

(c) Bureau of Safety and Environmental Enforcement Update.

(d) Outer Continental Shelf National Center of Expertise Update.

(e) International Association of Drilling Contractors Presentation.

(f) Outer Continental Shelf Operators Panel Discussion on 2017 Hurricane Season Impacts.

(g) Introduction of a new task statement: Lessons Learned from the 2017 Hurricane Response Efforts—an Industry Point of View.

(5) Public comment period.

A copy of all meeting documentation will be available at https://homeport.uscg.mil/missions/ports-and-waterways/safety-advisory-committees/nosac/meetings no later than March 20, 2018. Alternatively, you may contact Mr. Matthew Layman or Mr. Patrick Clark as noted in the FOR FURTHER INFORMATION CONTACT section above.

A public oral comment period will be held during the meeting on March 28, 2018, and speakers are requested to limit their comments to 3 minutes. Contact one of the individuals listed below to register as a speaker.

Dated: February 5, 2018.
Jeffrey G. Lantz,
Director of Commercial Regulations and Standard.

[FR Doc. 2018-03758 Filed 2-22-18; 8:45 am]

BILLING CODE 9110-04-P